DEPARTMENT OF TRANSPORTATION

Federal Aviation Administration

14 CFR Part 71

[Docket No. FAA-2017-1202; Airspace Docket No. 17-AWP-31]

RIN 2120-AA66

Establishment of Class E Airspace, Los Angeles, CA

AGENCY: Federal Aviation Administration (FAA), DOT.

ACTION: Final rule.

SUMMARY: This action establishes Class E en route airspace extending upward from 1,200 feet above the surface to accommodate instrument flight rules (IFR) aircraft under control of the Los Angeles Air Route Traffic Control Center (ARTCC), Los Angeles, CA. Establishment of this airspace area would ensure controlled airspace exists in those areas where the Federal airway structure is inadequate. This action also corrects an error in one of the longitude coordinates in the airspace description.

DATES: Effective 0901 UTC, November 8, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 2200 S 216th Street, Des Moines, WA 98198; telephone (206) 231-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E en route airspace extending upward from 1,200 feet above the surface to support IFR aircraft under control of the Los Angeles ARTCC, Los Angeles, CA.

History

The FAA published a notice of proposed rulemaking (NPRM) in the Federal Register (83 FR 24050; May 24, 2018) for Docket No. FAA-2017-1202 to establish Class E en route airspace extending 1,200 feet above the surface for IFR aircraft under control of the Los Angeles ARTCC, Los Angeles, CA. Interested parties were invited to participate in this rulemaking effort by submitting written comments on the proposal to the FAA. One comment was received in support of this action.

Subsequent to publication, a typographical error was discovered in one of the coordinates listed in the airspace description. The longitude coordinate of “lat. 32°32′03″ N, long. 117°07′25″ W” is amended to “lat. 32°32′03″ N, long. 117°07′29″ W” to correct the error.

Class E airspace designations are published in paragraph 6006 of FAA Order 7400.11B, dated August 3, 2017, and effective September 15, 2017, which is incorporated by reference in 14 CFR 71.1. The Class E airspace designation listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by establishing Class E en route airspace extending upward from 1,200 feet above the surface to accommodate instrument flight rules (IFR) aircraft under control of the Los Angeles Air Route Traffic Control Center (ARTCC), Los Angeles, CA to ensure controlled airspace exists in those areas where the Federal airway structure is inadequate.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 6006 En Route Domestic Airspace Areas.

* * * * *

AWP CA E6 Los Angeles, CA [NEW]

That airspace extending upward from 1,200 feet above the surface within an area bounded by lat. 35°17′00″ N, long. 121°25′28″ W; to lat. 35°32′00″ N, long. 120°51′00″ W; to lat. 35°37′00″ N, long. 120°33′45″ W; to lat. 35°38′30″ N, long. 120°28′30″ W; to lat. 35°41′58″ N, long. 120°17′17″ W; to lat. 35°43′00″ N, long. 120°13′55″ W; to lat. 35°45′00″ N, long. 120°07′00″ W; to lat. 35°43′11″ N, long. 119°55′03″ W; to lat. 35°41′04″ N, long. 119°42′46″ W; to lat. 35°39′39″ N, long. 119°34′35″ W; to lat. 35°38′43″ N, long. 119°29′25″ W; to lat. 35°49′40″ N, long. 119°22′20″ W; to lat. 36°04′30″ N, long. 119°12′30″ W; to lat. 36°08′00″ N, long. 119°10′00″ W; to lat. 36°08′00″ N, long. 119°02′20″ W; to lat. 36°08′00″ N, long. 119°00′00″ W; to lat. 36°08′00″ N, long. 118°35′00″ W; to lat. 36°34′15″ N, long. 118°35′00″ W; to lat. 36°45′45″ N, long. 118°35′00″ W; to lat. 37°04′50″ N, long. 118°35′00″ W; to lat. 37°12′00″ N, long. 118°35′03″ W; to lat. 37°12′00″ N, long. 118°26′00″ W; to lat. 37°12′00″ N, long. 118°00′00″ W; to lat. 37°12′00″ N, long. 117°20′00″ W; to lat. 37°22′00″ N, long. 117°00′30″ W; to lat. 37°26′30″ N, long. 117°04′33″ W; to lat. 37°33′00″ N, long. 117°05′41″ W; to lat. 37°53′00″ N, long. 117°05′41″ W; to lat. 37°53′00″ N, long. 116°50′00″ W; to lat. 37°53′00″ N, long. 116°26′03″ W; to lat. 37°53′00″ N, long. 116°11′03″ W; to lat. 37°59′59″ N, long. 114°42′06″ W; to lat. 38°01′00″ N, long. 114°30′03″ W; to lat. 38°01′00″ N, long. 114°12′03″ W; to lat. 37°53′44″ N, long. 113°42′03″ W; to lat. 37°49′25″ N, long. 113°42′01″ W; to lat. 37°43′00″ N, long. 113°47′00″ W; to lat. 37°30′00″ N, long. 113°00′00″ W; to lat. 37°27′22″ N, long. 112°25′19″ W; to lat. 37°24′50″ N, long. 111°53′45″ W; to lat. 37°24′45″ N, long. 111°52′45″ W; to lat. 37°00′18″ N, long. 111°43′06″ W; to lat. 36°44′00″ N, long. 111°36′30″ W; to lat. 36°30′54″ N, long. 111°32′08″ W; to lat. 36°25′15″ N, long. 111°30′15″ W; to lat. 35°46′00″ N, long. 111°50′30″ W; to lat. 35°24′00″ N, long. 112°00′00″ W; to lat. 35°23′48″ N, long. 112°09′11″ W; to lat. 35°23′00″ N, long. 112°40′00″ W; to lat. 35°15′20″ N, long. 112°55′40″ W; to lat. 34°55′00″ N, long. 113°37′00″ W; to lat. 34°52′00″ N, long. 113°42′00″ W; to lat. 34°40′00″ N, long. 114°00′00″ W; to lat. 33°24′00″ N, long. 114°00′00″ W; to lat. 32°41′00″ N, long. 114°00′00″ W; to lat. 32°44′15″ N, long. 113°41′05″ W; to lat. 32°06′58″ N, long. 113°30′46″ W; to lat. 32°06′00″ N, long. 113°30′30″ W; to lat. 32°15′00″ N, long. 114°00′00″ W; to lat. 32°29′38″ N, long. 114°48′47″ W; to lat. 32°43′07″ N, long. 114°43′07″ W; to lat. 32°38′30″ N, long. 115°48′30″ W; to lat. 32°32′03″ N, long. 117°07′29″ W; to lat. 32°24′00″ N, long. 117°24′38″ W; to lat. 32°35′07″ N, long. 118°29′51″ W; to lat. 33°04′49″ N, long. 119°44′49″ W; to lat. 33°54′53″ N, long. 120°40′02″ W; to lat. 34°50′19″ N, long. 121°10′09″ W, thence to the point of beginning, excluding that airspace offshore beyond 12 miles of the shoreline.

Issued in Seattle, Washington, on August 29, 2018.
Shawn M. Kozica,
Group Manager, Operations Support Group, Western Service Center.

[FR Doc. 2018-19725 Filed 9-12-18; 8:45 am]

BILLING CODE 4910-13-P